SECURITIES AND EXCHANGE COMMISSION

Sunshine Act Meeting

Federal Register Citation Of Previous Announcement: [73 FR 2560, January 15, 2008].

Status: Open Meeting.

Place: 100 F Street, NE., Auditorium, Room L-002, Washington, DC.

Date and time of previously announced meeting: Wednesday, January 16, 2008 at 10 a.m.

Change in the meeting: Cancellation of Meeting.

The Open Meeting scheduled for Wednesday, January 16, 2008 has been cancelled.

For further information please contact the Office of the Secretary at (202) 551-5400.

Dated: January 16, 2008.
Nancy M. Morris,
Secretary.

[FR Doc. E8-946 Filed 1-18-08; 8:45 am]

BILLING CODE 8011-01-P